NATIONAL TRANSPORTATION SAFETY BOARD

Sunshine Act Meeting

TIME AND DATE: 9:30 a.m., Tuesday, September 13, 2011.

PLACE: NTSB Conference Center, 429 L'Enfant Plaza SW., Washington, DC 20594.

STATUS: The ONE item is open to the public.

MATTER TO BE CONSIDERED: 8220A Highway Accident Report—Truck-Tractor Semitrailer Median Crossover Collision With 15-Passenger Van, Munfordville, Kentucky, March 26, 2010.

NEWS MEDIA CONTACT: Telephone: (202) 314-6100.

The press and public may enter the NTSB Conference Center one hour prior to the meeting for set up and seating.

Individuals requesting specific accommodations should contact Rochelle Hall at (202) 314-6305 by Friday, September 9, 2011.

The public may view the meeting via a live or archived webcast by accessing a link under “News & Events” on the NTSB home page at http://www.ntsb.gov.

FOR FURTHER INFORMATION CONTACT: Candi Bing, (202) 314-6403 or by e-mail at bingc@ntsb.gov.

Dated: August 26, 2011.
Candi R. Bing
Federal Register Liaison Officer.

[FR Doc. 2011-22253 Filed 8-26-11; 4:15 pm]

BILLING CODE 7533-01-P